DEPARTMENT OF ENERGY

Federal Energy Regulatory Commission

[Docket Nos. RM01-12-000 et al.]

Electricity Market Design and Structure; Notice of Technical Conference

January 24, 2002.

In the matter of RT01-2-001, RT01-10-000, RT01-15-000, RT01-34-000, RT01-35-000, RT01-67-000, RT01-74-000, RT01-75-000, RT01-77-000, RT01-85-000, RT01-86-000, RT01-87-000, RT01-88-000, RT01-94-000, RT01-95-000, RT01-98-000, RT01-99-000, RT01-100-000, RT02-1-000, EL02-9-000, PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company, UGI Utilities Inc., Allegheny Power, Avista Corporation, Montana Power Company, Nevada Power Company, Portland General Electric Company, Puget Sound Energy, Inc., Sierra Pacific Power Company, Southwest Power Pool, Inc., Avista Corporation, Bonneville Power Administration, Idaho Power Company, Montana Power Company, Nevada Power Company, PacifiCorp, Portland General Electric Company, Puget Sound Energy, Inc., Sierra Pacific Power Company, GridFlorida LLC, Florida Power & Light Company, Florida Power Corporation, Tampa Electric Company, Carolina Power & Light Company, Duke Energy Corporation, South Carolina Electric & Gas Company, GridSouth Transco, LLC, Entergy Services, Inc., Southern Company Services, Inc., California Independent System Operator, Corporation, Bangor Hydro-Electric Company, Central Maine Power Company, National Grid USA, Northeast Utilities Service Company, The United Illuminating Company, Vermont Electric Power Company, ISO New England Inc., Midwest Independent System Operator, Alliance Companies, NSTAR Services Company, New York Independent System Operator, Inc., Central Hudson Gas & Electric Corporation, Consolidated Edison Company of New York, Inc., Niagara Mohawk Power Corporation, New York State Electric & Gas Corporation, Orange & Rockland Utilities, Inc., Rochester Gas & Electric Corporation, PJM Interconnection, L.L.C., Regional Transmission Organizations, Regional Transmission Organizations, Arizona Public Service Company, El Paso Electric Company, Public Service Company of New Mexico, Tucson Electric Power Company, WestConnect RTO, LLC

Take notice that the Staff of the Commission is convening a technical conference on February 5-7, 2002, to discuss the technical issues relating to the Commission's consideration of a standard market design for wholesale electric power markets. The conference will feature panel discussions on: (1) Energy Markets and Operating Reserves; (2) Generation Adequacy; (3) Market Power Mitigation; (4) Transmission Rights and Financial Rights; (5) Transmission Tariff Transition; and (6) Minimizing Implementation Costs. This conference is intended to continue the discussions, begun at the public conference on January 22 and 23, 2002. Additional details about the conference will be provided in a subsequent notice and posted on the Commission's Web site under RTO Activities.

Members of the Commission may attend the conference and participate in the discussions. All interested persons may attend.

The conference will be held from approximately 9:30 a.m. to 5:00 p.m. each day, in a room to be designated at the offices of the Federal Energy Regulatory Commission, 888 First Street, NE, Washington, DC. The Commission is inviting selected panelists on these topics to participate in these workshops; it is not at this time entertaining requests to make presentations. There will be an opportunity for non-panelists to submit comments in the above dockets. For additional information about the conference, please contact Connie Caldwell at (202) 208-2027.

C.B. Spencer,
Acting Secretary.

[FR Doc. 02-2294 Filed 1-29-02; 8:45 am]

BILLING CODE 6717-01-P